DEPARTMENT OF COMMERCE

National Telecommunications and Information Administration

Digital Economy Board of Advisors, Extension of Nomination Deadline

AGENCY: National Telecommunications and Information Administration, U.S. Department of Commerce.

ACTION: Extension of Nomination Deadline for the Digital Economy Board of Advisors.

SUMMARY: NTIA announces that the closing deadline for the submission of nominations for the Digital Economy Board of Advisors is extended to midnight Eastern Standard Time (EST) on January 12, 2016.

DATES: Nominations should be submitted electronically using the online nomination form on or before midnight EST on January 12, 2016.

ADDRESSES: All nominations should be submitted using the online nomination form located at www.ntia.doc.gov/digital-economy.

FOR FURTHER INFORMATION CONTACT: Evelyn Remaley, Designated Federal Officer, at (202) 482-3821 or DEBA@ntia.doc.gov.

SUPPLEMENTARY INFORMATION: On November 27, 2015, NTIA published a notice in the Federal Register announcing the establishment of the Digital Economy Board of Advisors and calling for nominations for the Board. (80 FR 74086, Nov. 27, 2015). NTIA requires that all nominations be submitted electronically using the online nomination form located at www.ntia.doc.gov/digital-economy. NTIA established a nomination window through midnight EST on December 23, 2015.

NTIA extends the nomination deadline to midnight EST on January 12, 2016. NTIA announces this deadline extension in the interest of ensuring that applicants have sufficient time to submit nominations, recognizing the proximity of several Federal holidays to the current nomination deadline. All other requirements for the submission of nominations remain unchanged.

Dated: December 17, 2015.
Kathy D. Smith,
Chief Counsel, National Telecommunications and Information Administration.

[FR Doc. 2015-32115 Filed 12-21-15; 8:45 am]

BILLING CODE 3510-60-P